DEPARTMENT OF TRANSPORTATION

National Highway Traffic Safety Administration

[Docket No. NHTSA-2000-6857]

Intac Automotive Products, Inc., Receipt of Application for Decision of Inconsequential Noncompliance

Intac Automotive Products, Inc., (Intac) has determined that certain brake fluid containers manufactured by its supplier, Gold Eagle, are not in full compliance with 49 CFR 571.116, Federal Motor Vehicle Safety Standard (FMVSS) No. 116, “Motor vehicle brake fluids”, and has filed appropriate reports pursuant to 49 CFR Part 573, “Defect and Noncompliance Reports.” Intac has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgment concerning the merits of the application.

Paragraph S5.2.2.2 of FMVSS No. 116 states that certain information, including a serial number identifying the packaged lot and date of packaging, shall be clearly marked on each brake fluid container or label permanently affixed to the container. Paragraph S5.2.2.2 further states that the information required on the container or container label, including the serial number identifying the packaged lot and date specified in S5.2.2.2(d), shall be legible after being subjected to the test procedures in S6.14, Container information. Paragraph S6.14 requires that each container be immersed in the same brake fluid contained therein for 15 minutes and dried within 5 minutes of removal of the container from the brake fluid.

Intac informed the agency that, on November 4, 1997, it manufactured approximately 9,000 containers of brake fluid which it shipped to Petrochemical, Inc., for Mazda. On April 6, 1999, Intac manufactured approximately 30,500 containers of brake fluid which it shipped to Nissan and, on August 12, 1999, it manufactured approximately 16,800 containers of brake fluid which it shipped to Petrochemical, Inc., for Subaru. Certain of these brake fluid containers were not in compliance with the requirements of S5.2.2.2(d) of FMVSS No. 116. That is, after removal from the brake fluid and drying when tested according to S6.14, the packaged lot and date code information required in S5.2.2.2(d) was not visible on some of the labels. Intac believes this condition to be inconsequential as it relates to motor vehicle safety.

Intac supports its application for inconsequential noncompliance by stating that all the substantive safety warnings on the subject brake fluid container labels were legible after testing in accordance with S6.14. Intac stated that the purpose of the serial number identifying packaged lot and date of packaging is to facilitate determination of the extent of defective brake fluid should such be discovered. According to Intac, there is no serious risk to motor vehicle safety if the lot and date information is lost. If packaged lot and packaging date information were not visible on containers, the manufacturer would have to recall all such containers in addition to targeted containers with legible packaged lot and date information, if defective brake fluid were to be discovered or suspected.

Intac also stated that the brake fluid containers in question were distributed to motor vehicle dealerships and authorized repair facilities and it is unlikely that private consumers obtained these products through retail for personal use.

According to Intac, the dealerships and authorized repair facilities that received the brake fluid tend to consume the product quickly once the containers are opened. Therefore, there is little likelihood that the packaged lot and date information on the container label would become illegible through contact with brake fluid before the contents of a container is used. Intac claims that brake fluid containers from the noncompliant runs with legible packaged lot and date of packaging information would be available for reference if a defect in the brake fluid from these production runs were discovered or suspected.

Intac further stated that it was able to secure most of the noncompliant inventory after contacting Nissan and Petrochemical, so that a large quantity of the noncompliant brake fluid containers will be returned to Intac and the noncompliance can be remedied.

Interested persons are invited to submit written data, views, and arguments on the application described above. Comments should refer to the docket number and be submitted to: U.S. Department of Transportation, Docket Management, Room PL-401, 400 Seventh Street, SW, Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below.

Comment closing date: March 20, 2000.

(49 U.S.C. 30118, 30120; delegations of authority at 49 CFR 1.50 and 501.8)

Issued on: February 14, 2000.
Stephen R. Kratzke,
Acting Associate Administrator for Safety Performance Standards.

[FR Doc. 00-3896 Filed 2-17-00; 8:45 am]

BILLING CODE 4910-59-P